ENVIRONMENTAL PROTECTION AGENCY

40 CFR Part 721

Significant New Uses of Chemical Substances

CFR Correction

In Title 40 of the Code of Federal Regulations, Parts 700 to 789, revised as of July 1, 2008, on page 431, after the source note for § 721.8940 and before paragraph (a), reinstate the heading for § 721.8950 to read as follows:

§ 721.8950 Chromate(3-), bis[3-[[6-amino-1,4-dihydro-2-[[[4-[(2-hydroxy-1-naphthalenyl)azo] phenyl]sulfonyl]amino]-4-(oxo-.kappa.O)-5-pyrimidinyl]azo-.kappaN1]-4-hydroxy-.kappa.O)-5-nitrobenzenesulfonato(3-)]-, sodium triethanolamine salts.

[FR Doc. E9-14993 Filed 6-23-09; 8:45 am]

BILLING CODE 1505-01-D